OVERSEAS PRIVATE INVESTMENT CORPORATION

November 14, 2002 Board of Directors Meeting

Time and Date: Thursday, November 14, 2002, 1:30 p.m. (Open Portion), 1:45 p.m. (Closed Portion).

Place: Offices of the Corporation, Twelfth Floor Board Room, 1100 New York Avenue, NW., Washington, DC.

Status: Meeting Open to the Public from 1:30 p.m. to 1:45 p.m. Closed portion will commence at 1:45 p.m. (approx.).

Matters to Be Considered:

1. President's Report.

2. Approval of September 12, 2002 Minutes (Open Portion).

Further Matters to Be Considered: (Closed to the Public 1:45 p.m.).

1. Finance Project in Russia and NIS.

2. Approval of September 12, 2002 Minutes (Closed Portion).

3. Pending Major Projects.

4. Reports.

Contact Person for Information: Information on the meeting may be obtained from Connie M. Downs at (202) 336-8438.

Dated: November 5, 2002.
Connie M. Downs,
Corporate Secretary, Overseas Private Investment Corporation.

[FR Doc. 02-28578 Filed 11-5-02; 3:58 pm]

BILLING CODE 3210-01-M